DEPARTMENT OF HEALTH AND HUMAN SERVICES

National Institutes of Health

National Institute on Alcohol Abuse and Alcoholism; Amended Notice of Meeting

Notice is hereby given of a change in the meeting of the Health Services Research Review Subcommittee, October 19, 2000, 8:30 am to October 19, 2000, 5:30 pm, American Inn, 8130 Wisconsin Avenue, Bethesda, MD, 20814 which was published in the Federal Register on August 17, 2000, FR 65 50210.

The meeting will be held at the Courtyard By Marriott, 805 Russell Avenue, Gaithersburg, MD 20879 on October 19, 2000. Published in Federal Register Volume 65, Number 160, page 50210. The meeting is closed to the public.

Dated: September 5, 2000.
LaVerne Y. Stringfield,
Director, Office of Federal Advisory Committee Policy.

[FR Doc. 00-23665 Filed 9-13-00; 8:45 am]

BILLING CODE 4140-01-M